DEPARTMENT OF COMMERCE

Foreign-Trade Zones Board

[Order No. 1223]

Approval for Expanded Manufacturing Authority and Subzone Expansion; (Motor Vehicle Air-Conditioning Components), Foreign-Trade Subzone 39C, Sanden International (USA), Inc., Wylie, TX

Pursuant to its authority under the Foreign-Trade Zones Act of June 18, 1934, as amended (19 U.S.C. 81a-81u), the Foreign-Trade Zones Board (the Board) adopts the following Order:

Whereas, the Dallas/Fort Worth International Airport Board, grantee of FTZ 39, has requested authority on behalf of Sanden International (USA), Inc. (Sanden), operator of FTZ 39C, at the Sanden motor vehicle air-conditioner components manufacturing facility in Wylie, Texas, to expand the scope of authority to include new manufacturing capacity under FTZ procedures and requesting authority to expand the boundaries of Subzone 39C to include a new site in Dallas, Texas (FTZ Doc. 10-2001, filed 2-14-2001);

Whereas, notice inviting public comment was given in the Federal Register (66 FR 12460, 2-27-2001);

Whereas, the Board adopts the findings and recommendations of the examiner's report, and finds that the requirements of the FTZ Act and the Board's regulations are satisfied, and that approval of the application is in the public interest;

Now therefore, the Board hereby approves the request, subject to the FTZ Act and the Board's regulations, including Section 400.28.

Signed at Washington, DC, this 15th day of April 2002.
Faryar Shirzad,
Assistant Secretary of Commerce for Import Administration, Alternate Chairman, Foreign-Trade Zones Board.

[FR Doc. 02-10080 Filed 4-23-02; 8:45 am]

BILLING CODE 3510-DS-P